INTERNATIONAL TRADE COMMISSION

[USITC SE-13-015]

Sunshine Act Meeting Notice

AGENCY HOLDING THE MEETING: United States International Trade Commission.

TIME AND DATE: June 28, 2013 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 731-TA-1210-1212 (Preliminary) (Welded Stainless Steel Pressure Pipe from Malaysia, Thailand, and Vietnam). The Commission is currently scheduled to transmit its determinations to the Secretary of Commerce on or before July 1, 2013; Commissioners' opinions are currently scheduled to be transmitted to the Secretary of Commerce on or before July 9, 2013.

5. Outstanding action jackets: None.

In accordance with Commission policy, subject matter listed above, not disposed of at the scheduled meeting, may be carried over to the agenda of the following meeting.

Issued: June 18, 2013.
By order of the Commission.
William R. Bishop,
Supervisory Hearings and Information Officer.

[FR Doc. 2013-14807 Filed 6-18-13; 11:15 am]

BILLING CODE 7020-02-P